DEPARTMENT OF TRANSPORTATION

Federal Motor Carrier Safety Administration

[Docket No. FMCSA-2015-0146]

Agency Information Collection Activities; Extension of a Currently Approved Collection; Training Certification for Entry-Level Commercial Motor Vehicle Operators

AGENCY: Federal Motor Carrier Safety Administration (FMCSA), DOT.

ACTION: Notice and request for comments.

SUMMARY: In accordance with the Paperwork Reduction Act of 1995, FMCSA announces its plan to submit the Information Collection Request (ICR) described below to the Office of Management and Budget (OMB) for its review and approval and invites public comment. The Agency is asking OMB to renew without change FMCSA's estimate of the paperwork burden imposed by its regulations pertaining to the training of certain entry-level drivers of commercial motor vehicles (CMVs). Since 2004, FMCSA regulations have prohibited the operation of certain CMVs by individuals with less than 1 year of CMV-driving experience until they obtain this training.

DATES: We must receive your comments on or before July 27, 2015.

ADDRESSES: You may submit comments identified by Federal Docket Management System Number FMCSA-2015-0146 using any of the following methods:

• Federal eRulemaking Portal: http://www.regulations.gov. Follow the online instructions for submitting comments.

• Fax: 1-202-493-2251.

• Mail: Docket Management Facility; U.S. Department of Transportation, 1200 New Jersey Avenue SE., West Building, Ground Floor, Room W12-140, 20590-0001.

• Hand Delivery or Courier: West Building, Ground Floor, Room W12-140, 1200 New Jersey Avenue SE., Washington, DC between 9 a.m. and 5 p.m., e.t., Monday through Friday, except Federal holidays.

• Instructions: All submissions must include the Agency name and docket number. For detailed instructions on submitting comments and additional information on the exemption process, see the Public Participation heading below. Note that all comments received will be posted without change to http://www.regulations.gov, including any personal information provided. Please see the Privacy Act heading below.

• Docket: For access to the docket to read background documents or comments received, go to http://www.regulations.gov, and follow the online instructions for accessing the dockets, or go to the street address listed above.

• Privacy Act: Anyone is able to search the electronic form of all comments received into any of our dockets by the name of the individual submitting the comment (or signing the comment, if submitted on behalf of an association, business, labor union, etc.). You may review DOT's complete Privacy Act Statement for the Federal Docket Management System published in the Federal Register on January 17, 2008 (73 FR 3316), or you may visit http://edocket.access.gpo.gov/2008/pdfE8-794.pdf.

• Public Participation: The Federal eRulemaking Portal is available 24 hours each day, 365 days each year. You can obtain electronic submission and retrieval help and guidelines under the “help” section of the Federal eRulemaking Portal Web site. If you want us to notify you that we received your comments, please include a self-addressed, stamped envelope or postcard, or print the acknowledgement page that appears after submitting comments online. Comments received after the comment closing date will be included in the docket and will be considered to the extent practicable.

FOR FURTHER INFORMATION CONTACT: Mr. Thomas Yager, Chief, FMCSA Driver and Carrier Operations Division, Department of Transportation, FMCSA, West Building 6th Floor, 1200 New Jersey Avenue SE., Washington, DC, 20590. Telephone: 202-366-4325. Email: MCPSD@dot.gov.

SUPPLEMENTARY INFORMATION:

Background

The Commercial Motor Vehicle Safety Act of 1986 (CMVSA) (49 U.S.C. 31301 et seq.) established the commercial driver's license (CDL) program and directed the Federal Highway Administration (FHWA), FMCSA's predecessor agency, to establish minimum qualifications for issuance of a CDL. After public notice and an opportunity for comment, the FHWA established standards for the knowledge and skills that a CDL applicant must satisfy.

In 1985, the FHWA published the “Model Curriculum for Training Tractor-Trailer Drivers.” The FHWA did not mandate driver training at that time. It believed the cost of developing a comprehensive driver-training program was too high in terms of agency resources. This was especially so, FHWA believed, in light of its reasonable expectation that the level of safety of entry level drivers would soon be elevated because (1) the deadline for States to adopt the new mandatory CDL-licensing standards for driver knowledge and skills was still in the future, and (2) many truck driving schools had updated their curricula in light of the new model curriculum (“Truck Safety: Information on Driver Training,” Report of the U.S. General Accounting Office, GAO/RCED-89-163, August 1989, pages 4 and 5).

In 1991, the Intermodal Surface Transportation Efficiency Act of 1991 (ISTEA) (Pub. L. 102-240, December 18, 1991) directed the FHWA to “commence a rulemaking proceeding on the need to require training of all entry-level drivers of commercial motor vehicles (CMVs)” (Section 4007(a)(2)). On June 21, 1993, the FHWA issued an advance notice of proposed rulemaking entitled, “Commercial Motor Vehicles: Training for All Entry Level Drivers” (58 FR 33874). The Agency also began a study of the effectiveness of the driver training currently being received by entry-level CMV drivers. The results of the study were published in 1997 under the title “Adequacy of Commercial Motor Vehicle Driver Training.” The study is available under FMCSA Docket 1997-2199 at the Federal eRulemaking Portal (www.regulations.gov) described above. The study found that three segments of the trucking industry were not receiving adequate entry-level training: heavy truck, motor coach, and school bus.

On August 15, 2003, FMCSA published a notice of proposed rulemaking (NPRM) entitled, “Minimum Training Requirements for Entry-Level Commercial Motor Vehicle Operators” (68 FR 48863). The Agency proposed mandatory training for operators of CMVs on four topics: driver qualifications, hours-of-service of drivers, driver wellness and whistle-blower protection. The Agency believed that knowledge of these areas would provide the greatest benefit to the safety of CMV operations. On May 21, 2004, FMCSA by final rule prohibited a motor carrier from allowing an entry-level driver to operate a CMV until it received a written certificate indicating that the driver had received training in the four subject areas (69 FR 29384). The rule became effective on July 20, 2004. Training providers were required to provide a certificate to each driver trainee receiving the requisite training.

The Agency is asking OMB to renew without change FMCSA's estimate of the paperwork burden imposed by its regulations. (The Agency is currently conducting a negotiated rulemaking to redesign training for entry-level CMV operators; if the rulemaking amends driver-training requirements, the Agency will submit an estimate of the ICR burden of the requirements for OMB approval).

Title: Training Certification for Entry-Level Commercial Motor Vehicle Operators

OMB Control Number: 2126-0028.

Type of Request: Extension of a currently approved ICR.

Respondents: Entry-level CDL drivers.

Estimated Number of Respondents: 397,500.

Estimated Time per Response: 10 minutes.

Expiration Date: January 31, 2016.

Frequency of Response: On occasion.

Estimated Total Annual Burden: 66,250 hours. FMCSA estimates that an entry-level driver requires approximately 10 minutes to complete the tasks necessary to comply with the regulation. Those tasks are photocopying the training certificate, giving the photocopy to the motor carrier employer, and retaining the original of the certificate. Therefore, the annual burden for all entry-level drivers is 66,250 hours [397,500 drivers x 10/60 minutes to respond = 66,250 hours].

Definitions: (1) “Federal Motor Carrier Safety Regulations” (FMCSRs) are parts 350-399 of volume 49 of the Code of Federal Regulations. (2) “Commercial motor vehicle” (CMV) means a motor vehicle or combination of motor vehicles used in commerce to transport passengers or property if the motor vehicle—(a) has a gross combination weight rating of 11,794 kilograms or more (26,001 pounds or more) inclusive of a towed unit(s) with a gross vehicle weight rating (GVWR) of more than 4,536 kilograms (10,000 pounds); or (b) has a GVWR of 11,794 or more kilograms (26,001 pounds or more); or (c) is designed to transport 16 or more passengers, including the driver; or (d) is of any size and is used in the transportation of hazardous materials as defined in 49 CFR 383.5 (49 CFR 383.5). The definition of CMV found at 49 CFR 390.5 of the FMCSRs is not applicable to this notice. (3) “Commercial Driver's License (CDL) Driver” means the operator of a CMV because such operators must possess a valid commercial driver's license (CDL)(Section 383.23(a)(2)). (4) “Entry-level CDL Driver” means a driver with less than one year of experience operating a CMV with a CDL (49 CFR 380.502(b)).

Public Comments Invited: You are asked to comment on any aspect of this information collection, including: (1) Whether the proposed collection is necessary for the FMCSA's performance of functions; (2) the accuracy of the estimated burden; (3) ways for the FMCSA to enhance the quality, usefulness, and clarity of the collected information; and (4) ways that the burden could be minimized without reducing the quality of the collected information. The agency will summarize or include your comments in the request for OMB's clearance of this information collection.

Issued under the authority of 49 CFR 1.87 on: May 18, 2015.
G. Kelly Regal,
Associate Administrator for Office of Research and Information Technology.

[FR Doc. 2015-12855 Filed 5-27-15; 8:45 am]

BILLING CODE 4910-EX-P